DEPARTMENT OF HEALTH AND HUMAN SERVICES

Administration on Aging

[Program Announcement No. AoA-04-04]

Fiscal Year 2004 Program Announcement; Availability of Funds and Notice Regarding Applications

AGENCY: Administration on Aging, HHS.

ACTION: Announcement of availability of funds and request for applications for the Performance Outcomes Measures Project (POMP).

SUMMARY: The Administration on Aging announces that under this program announcement it will hold a competition for grant awards for 8-10 Standard POMP (Priority Area 1) projects at a Federal share of approximately $35,000-$50,000 per year for a project period of one year. It is estimated that $350,000 will be available for this competition. Further, the Administration on Aging announces that under this program announcement it will hold a competition for cooperative agreement awards for 8-12 Advanced POMP projects at a Federal share of approximately $15,000 per year for a project period of three years; budget period of one year. It is estimated that $150,000 will be available for this competition.

Legislative authority: The Older Americans Act, Pub. L. 106-501. (Catalog of Federal Domestic Assistance 93.048, Title IV and Title II, Discretionary Projects).

Purpose of grant awards: The purpose of these projects is to continue the development of performance outcome measures. The Administration on Aging (AoA) will fund two different types of Performance Outcome Measures Projects (POMP); one type will be funded with grant awards and the other with cooperative agreement awards.

Priority Area 1: Standard POMP—Grants will be awarded to State Agencies on Aging for the purpose of developing and/or refining consumer assessment performance measurement tools and developing service provider surveys to inform performance outcome measurement. Grant projects will receive technical support for conference calls, survey design, sampling, and data entry/data summary if requested.

Priority Area 2: Advanced POMP—Cooperative agreements will be awarded to State Agencies on Aging for the purpose of designing a protocol for the development of more robust performance outcome measures quantifying program impact in a manner that can be associated with program cost. The latter awards will be cooperative agreements because the Administration on Aging will be substantially involved in the development and execution of the activities of the projects. The cooperative agreement will provide for technical assistance and support to funded States. The applicants and the Administration on Aging will work cooperatively to clarify the issues to be addressed by the project.

Awardee activities for this priority area are as follows:

a. Working collaboratively with AoA, form a conference call workgroup to identify potential methodologies to measure program impacts in relationship to cost.

b. Selecting two grantees to co-lead the workgroup with AoA.

c. Forming subgroups to investigate existing research, identify promising methodology, investigate potential data sources, etc. Grantees should participate in at least two subgroups.

d. Drafting a plan that recommends two to three possible performance measurement approaches for future year testing.

AoA activities for this priority area are as follows:

a. Providing logistics for all conference calls (through technical assistance contract).

b. Co-leading the main workgroup with grantees.

c. Reviewing and commenting on products developed by subgroups.

d. Providing input for plan.

e. Providing contractor technical assistance identifying existing research and critiquing potential methodology.

Eligibility for grant awards and other requirements: Eligibility for grant awards is limited to State Units on Aging (SUAs).

Grantees are required to provide at least 25 percent of the total program costs from non-Federal cash or in-kind resources in order to be considered for the award.

Executive Order 12372 is not applicable to these grant applications.

Screening criteria: In order for an application to be reviewed it must meet the following screening requirements:

1. Postmark Requirements: Applications must be postmarked by midnight of the deadline date for submission indicated below, or hand delivered by 5:30 p.m. Eastern Time on that date, or submitted electronically by midnight on that date.

2. Organizational Eligibility: For the competitions under this announcement, eligibility is limited to State Units on Aging. State Agencies must collaborate with one or more Area Agency on Aging. For SUAs that function as a single planning and service area, applications must reflect substantial collaboration with one or more service provider agencies.

3. Responsiveness to Priority Area Description: Applications will be screened on whether the application is responsive to the priority area description.

4. Project Narrative: The project narrative must be double-spaced on single-sided 8.5″ x 11″ plain white paper with a 1″ margin on each side and a font size of not less than 11. You can use smaller font sizes to fill in the standard forms and sample formats. The suggested length of the narrative is ten to twenty pages; twenty pages is the maximum length allowed. AoA will not accept applications with a project narrative that exceed twenty pages excluding the project work plan grid, letters of cooperation and vitae of key personnel.

Review of applications: Applications will be evaluated against the following criteria:

Standard POMP (Priority Area 1): Purpose and Need for Assistance (20 points); Approach, Work Plan and Activities (35 points); Project Outcomes, Evaluation and Dissemination (25 points); Level of Effort (20 points).

Advanced POMP (Priority Area 2): Purpose and Need for Assistance (30 points); Approach, Work Plan and Activities (30 points); Project Outcomes, Evaluation and Dissemination (20 points); Level of Effort (20 points).

DATES: The deadline date for the submission of applications is July 26, 2004.

ADDRESSES: Application kits are available by writing to the U.S. Department of Health and Human Services, Administration on Aging, Office of Evaluation, Washington, DC 20201, by calling (202) 357-0145, or online at http://www.grants.gov.

Applications may be mailed to the U.S. Department of Health and Human Services, Administration on Aging, Office of Grants Management, Washington, DC 20201, attn: Margaret Tolson (AoA-04-04).

Applications may be delivered to the U.S. Department of Health and Human Services, Administration on Aging, Office of Grants Management, One Massachusetts Avenue, NW., Room 4604, Washington, DC 20001, attn: Margaret Tolson (AoA-04-04). If you elect to mail or hand deliver your application you must submit one original and two copies of the application; an acknowledgement card will be mailed to applicants. Instructions for electronic mailing of grant applications are available at http://www.grants.gov/.

FOR FURTHER INFORMATION CONTACT: U.S. Department of Health and Human Services, Administration on Aging, Office of Grants Management, Washington, DC 20201, telephone: (202) 357-3440.

SUPPLEMENTARY INFORMATION: All grant applicants must obtain a D-U-N-S number from Dun and Bradstreet. It is a nine-digit identification number, which provides unique identifiers of single business entities. The D-U-N-S number is free and easy to obtain from http://www.dnb.com/US/duns_update/.

Dated: June 21, 2004.
Josefina G. Carbonell,
Assistant Secretary for Aging.

[FR Doc. 04-14295 Filed 6-23-04; 8:45 am]

BILLING CODE 4154-01-P